MILLENNIUM CHALLENGE CORPORATION

[MCC FR 11-08]

Sunshine Act Meeting; Notice of the September 28, 2011, Millennium Challenge Corporation Board of Directors Meeting

AGENCY: Millennium Challenge Corporation.

TIME AND DATE: 10 a.m. to 12 p.m., Wednesday, September 28, 2011.

PLACE: Department of State, 2201 C Street, NW., Washington, DC 20520.

FOR FURTHER INFORMATION CONTACT: Information on the meeting may be obtained from Melvin F. Williams, Jr., Vice President, General Counsel and Corporate Secretary via e-mail at Corporatesecretary@mcc.gov or by telephone at (202) 521-3600.

STATUS: Meeting will be closed to the public.

MATTERS TO BE CONSIDERED: The Board of Directors (the “Board”) of the Millennium Challenge Corporation (“MCC”) will hold a meeting to discuss update on Tunisia, discussion of the Indonesia compact and the Selection Criteria & Methodology report. The agenda items are expected to involve the consideration of classified information and the meeting will be closed to the public.

Dated: September 14, 2011.
Melvin F. Williams, Jr.,
VP/General Counsel and Corporate Secretary, Millennium Challenge Corporation.

[FR Doc. 2011-23979 Filed 9-14-11; 4:15 pm]

BILLING CODE 9211-03-P